DEPARTMENT OF COMMERCE

National Oceanic and Atmospheric Administration

RIN 0648-XH08

Taking of Marine Mammals Incidental to Specified Activities; Taking Marine Mammals Incidental to Naval Surface Warfare Center Panama City Division Mission Activities

AGENCY: National Marine Fisheries Service (NMFS), National Oceanic and Atmospheric Administration (NOAA), Commerce.

ACTION: Notice; receipt of applications for letters of authorization; request for comments and information.

SUMMARY: NMFS has received requests from the U.S. Navy (Navy) for authorizations for the take of marine mammals incidental to Naval Surface Warfare Center Panama City Division (NSWC PCD) mission activities for the period beginning July 10, 2009 and ending July 9, 2014. Pursuant to the implementing regulations of the Marine Mammal Protection Act (MMPA), NMFS is announcing our receipt of the Navy's requests for the development and implementation of regulations governing the incidental taking of marine mammals and inviting information, suggestions, and comments on the Navy's applications and requests.

DATES: Comments and information must be received no later than May 14, 2008.

ADDRESSES: Comments on the applications should be addressed to P. Michael Payne, Chief, Permits, Conservation and Education Division, Office of Protected Resources, National Marine Fisheries Service, 1315 East-West Highway, Silver Spring, MD 20910-3225. The mailbox address for providing email comments is PR1.0648-XH08@noaa.gov. NMFS is not responsible for e-mail comments sent to addresses other than the one provided here. Comments sent via e-mail, including all attachments, must not exceed a 10-megabyte file size. Copies of the Navy's application may be obtained by writing to the address specified above (See ADDRESSES), telephoning the contact listed below (see FOR FURTHER INFORMATION CONTACT), or visiting the internet at: http://www.nmfs.noaa.gov/pr/permits/incidental.htm. A draft Environmental Impact Statement/Overseas Environmental Impact Statement - NSWC PCD Mission Activities (EIS/OEIS) prepared by the Navy can be viewed at: http://nswcpc.navsea.navy.mil/Environment-Documents.htm.

FOR FURTHER INFORMATION CONTACT: Shane Guan, Office of Protected Resources, NMFS, (301) 713-2289, ext. 137.

SUPPLEMENTARY INFORMATION:

Background

Sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have no more than a negligible impact on the species or stock(s), will not have an unmitigable adverse impact on the availability of the species or stock(s) for subsistence uses, and if the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

On April 3, 2008, NMFS received an application from the Navy requesting an authorization for the take of 15 species/stocks of cetacean incidental to the proposed mission activities in the NSWC PCD study area over the course of 5 years. These mission activities are classified as military readiness activities. The purpose of the proposed mission activities is to enhance NSWC PCD's capability and capacity to meet littoral and expeditionary warfare requirements by providing Research, Development, Test, and Evaluation (RDT&E) and in service engineering for expeditionary maneuver warfare, operations in extreme environments, mine warfare, maritime operations, and coastal operations. The Navy states that these training activities may cause various impacts to marine mammal species in the NSWC PCD study area. The Navy requests an authorization to take individuals of these cetacean species by Level B Harassment. Further, the Navy requests an authorization to take 1 individual each of bottlenose, Atlantic spotted, and pantropical spotted dolphins per year by injury, as a result of the proposed mission activities. Please refer to Tables 6-3, 6-4, 6-6, 6-7, 6-8, and 6-9 of the LOA application for detailed information of the potential exposures from sonar exercises, detonations, and line charges (per year) for marine mammals in the NSWC PCD study area.

Specified Activities

In the application submitted to NMFS, the Navy requests an authorization for take of marine mammals incidental to conducting mission activities within the NSWC PCD study area, which includes St. Andrew Bay (SAB) and military warning areas (areas within the Gulf of Mexico (GOM) subject to military operations) W-151 (includes Panama City Operating Area), W-155 (includes Pensacola Operating Area), and W-470. NSWC PCD provides RDT&E and in-service support for expeditionary maneuver warfare, operations in extreme environments, mine warfare, maritime (ocean-related) operations, and coastal operations. A variety of naval assets, including ships, aircraft, and underwater systems support the mission activities for eight primary test operations that occur within or over the water environment up to the high water mark. These operations include air, surface, and subsurface operations, sonar, electromagnetic energy, laser, ordnance, and projectile firing. Among the aforementioned operations, those activities that have been identified in the past to have the potential to affect marine mammals include surface, sonar, ordnance, and projectile firing operations. The following paragraphs provide some descriptions of these activities. For detailed description of these proposed activities, please refer to the LOA application and the NSWC PCD EIS/OEIS.

Surface Operations

A significant portion of NSWC PCD RDT&E relies on surface operations to successfully complete missions. Four subcategories make up the surface operations category. They include support activities, tows, deployment and recovery of equipment and systems development.

The first subcategory is support activities, which are required by nearly all of the testing missions within the NSWC PCD study area. The size of these vessels varies in accordance with the test requirements and vessel availability. Often multiple surface crafts are required to support a single test event. Acting as a support platform for testing, these vessels are utilized to carry test equipment and personnel to and from the test sites and are also used to secure and monitor the designated test area. Normally, these vessels remain on site and return to port following the completion of the test; occasionally, however, they remain on-station throughout the duration of the test cycle for guarding sensitive equipment in the water. Testing associated with these operational capabilities may include a single test event or a series of test events spread out over consecutive days or as one long test operation that requires multiple days to complete.

The remaining subcategories of additional support include tows, deployment and recovery of equipment, and systems development. Tows are also conducted from ships at the NSWC PCD to test system functionality. Tow tests of this nature involve either transporting the system to the designated test area where it is deployed and towed over a pre-positioned inert minefield or towing the system from NSWC PCD to the designated test area. Surface vessels are also utilized as a tow platform for systems that are designed to be deployed by helicopters. Surface vessels that are used in this manner normally return to port the same day. However, this is test dependent, and under certain circumstance (e.g., endurance testing), the vessel may be required to remain on site for an extended period of time. Finally, RDT&E activities also encompass testing of new, alternative, or upgraded hydrodynamics, and propulsion, navigational, and communication software and hardware systems.

Sonar Operations

NSWC PCD sonar operations involve the testing of various sonar systems in the ocean and laboratory environment as a means of demonstrating the systems' software capability to detect, locate, and characterize mine-like objects under various environmental conditions. The data collected are used to validate the sonar systems' effectiveness and capability to meet the mission.

The various sonar systems proposed to be tested within the NSWC PCD Study Area range in frequencies from 1 kilohertz (kHz) to 5 megahertz (MHz) (5,000 kHz). The source levels associated with some of the NSWC PCD sonar systems range from between 200 dB re 1 microPa-m to 250 dB re 1 microPa-m. The sonar systems tested are typically part of a towed array or hull mounted to a vessel. Additionally, subsystems associated with an underwater unmanned vehicle (UUV) or surf zone crawler operation are included. Operating parameters of the sonar systems used at NSWC PCD can be found in Appendix A of the LOA application.

Table 1-1 of the LOA application provides an overall summary of the total tempos associated with sonar operations for the proposed mission activities. The table includes number of hours of operation for mid-frequency and high-frequency sonar testing activities for territorial and non-territorial waters, respectively.

Ordnance Operations

Ordnance operations include live testing of ordnance of various net explosive weights and line charges.

(1) Ordnance

Live testing would only be conducted after a system has successfully completed inert testing and an adequate amount of data has been collected to support the decision for live testing. Testing with live targets or ordnance would be closely monitored and uses the minimum number of live munitions necessary to meet the testing requirement. Depending on the test scenario, live testing may occur from the surf zone out to the outer perimeter of the NSWC PCD study area. The Navy requires the capability to conduct ordnance operations in shallow water to clear surf zone areas for sea-based expeditionary operations. The size and weight of the explosives used varies from 0.91 to 272 kg (2 to 600 lb) trinitrotoluene (TNT) net explosive weight (NEW) depending on the test requirements. Detonation of ordnance with a NEW less than 34.5 kg (76 lb) would be conducted in territorial waters and detonations of ordnance with a NEW greater than 34.5 kg (76 lb) would be conducted in non-territorial waters.

(2) Line Charges

Line charges consist of a 107 m (350 ft) detonation cord with explosives lined from one end to the other end in 2 kg (5 lb) increments and total 794 kg (1,750 lb) of NEW. The charge is considered one explosive source that has multiple increments that detonate at one time. The Navy proposes to conduct up to three line charge events in the surf zone. Line charge testing would only be conducted in the surf zone along the portion of Santa Rosa Island that is part of Eglin Air Force Base (AFB). The Navy must develop a capability to safely clear surf zone areas for sea-based expeditionary operations. To that end, NSWC PCD occasionally performs testing on various surf zone clearing systems that use line charges to neutralize mine threats. These tests would be typically conducted from a surface vessel (e.g., Landing Craft Air Cushion) and would be deployed using either a single or dual rocket launch scenario. This would be a systems development test and only assesses the in-water components of testing.

Table 1-1 of the LOA application provides an overview of ordnance testing at NSWC PCD.

Projectile Firing Operations

Current projectile firing includes 50 rounds of 30-mm ammunition each year within the NSWC PCD study area. The capability of utilizing gunfire during test operations was identified as a future requirement. Rounds (individual shots) identified include 5 inch, 20 mm, 25 mm, 30 mm, 40 mm, 76 mm, and various small arms ammunition (i.e., standard target ammo). Projectiles associated with these rounds are mainly armor-piercing projectiles. The 5-in round is a high explosive projectile containing approximately 3.63 kg (8 lbs) of explosive material. All projectile firing would occur over non-territorial waters.

Proposed Monitoring and Mitigation Measures

The NSWC PCD proposed a list of monitoring and mitigation measures to reduce any potential to marine mammals.

The Navy would provide training to marine observers and would establish quickly and effectively communication within the command structure to facilitate implementation of protective measures if marine mammals are spotted during the operations. Marine observers would have at least one set of binoculars available for each person to aid in the detection of marine mammals. Marine observers would scan the water from the ship to the horizon and be responsible for all observations in their sector. Observers would be responsible for informing the Test Director of any marine mammal that is sighted. Test Directors would, as appropriate to the event, make use of marine species detection cues and information to limit interaction with marine species to the maximum extent possible, consistent with the safety of the ship. A summary of specific monitoring and mitigation measures is provided below:

Mitigation Measures for Surface Operations

For surface activities, visual surveys would be conducted for all test operations to reduce the potential for vessel collisions with a protected species. If necessary, the ship's course and speed would be adjusted. Other mitigation measures include maintaining alert vessel lookouts when traveling at high speeds to reduce the potential for collision to occur with a marine mammal.

Mitigation Measures for Sonar Operations

For sonar operations, in general, the Navy will operate sonar at the lowest practicable level, not to exceed source level of 235 dB re 1 microPa, except as required to meet RDT&E objectives.

Prior to start up or restart of active sonar, operators will check that the safety zone radii around the sound system are clear of marine mammals. Helicopters will observe/survey the vicinity of an NSWC PCD RDT&E activity for 10 minutes before the first deployment of active (dipping) sonar in the water.

During operations involving mid-frequency active (MFA) sonar, personnel would use all available sensor and optical systems (such as night vision goggles to aid in the detection of marine mammals). Navy aircraft participating would conduct and maintain, when operationally feasible, required, and safe, surveillance for marine mammal species as long as it does not violate safety constraints or interfere with the accomplishment of primary operational duties.

Marine mammal detections by aircraft will be immediately reported to the Test Director. This action will occur when it is reasonable to conclude that the course of the ship will likely approach marine mammals within the safety radii.

When marine mammals are detected by any means (aircraft, shipboard lookout, or acoustically) within 914 m (1,000 yd) of the sonar system, the platform will limit active transmission levels to at least 6 decibels (dB) below normal operating levels. Vessels will continue to limit maximum transmission levels by this 6-dB factor until the animal has been seen to leave the area, has not been detected for 30 minutes, or the vessel has transited more than 914 m (1,000 yd) beyond the location of the last detection.

Should a marine mammal be detected within or closing to inside 457 m (500 yd) of the sonar dome, active sonar transmissions will be limited to at least 10 dB below the equipment's normal operating level. Platforms will continue to limit maximum ping levels by this 10-dB factor until the animal has been seen to leave the area, has not been detected for 30 minutes, or the vessel has transited more than 914 m (1,000 yd) beyond the location of the last detection.

Should the marine mammal be detected within or closing to inside 183 m (200 yd) of the sonar dome, active sonar transmissions will cease. Sonar will not resume until the animal has been seen to leave the area, has not been detected for 30 minutes, or the vessel has transited more than 914 m (1,000 yd) beyond the location of the last detection.

If the need for power-down should arise, Navy staff will follow the requirements as though they were operating at 235 dB, the normal operating level (i.e., the first power-down will be to 229 dB, regardless of the level above 235 dB the sonar was being operated).

Mitigation Measures for Detonations and Projectiles

No detonations over 34 kg (75 lb) of NEW would be conducted in territorial waters. However, this does not apply to the line charge detonation, which is a 107 m (350 ft) detonation cord with explosives lined from one end to the other end in 2 kg (5 lb) increments and total 794 kg (1,750 lb) of NEW. This charge is considered one explosive source that has multiple increments that detonate at one time.

The number of live mine detonations would be minimized and the smallest amount of explosive material possible to achieve test objectives will be used.

Visual surveys and aerial surveys will be conducted for all test operations that involve detonation events with large NEW. Any protected species sighted would be avoided.

Line charge tests would not be conducted during the nighttime.

Information Solicited

Interested persons may submit information, suggestions, and comments concerning the Navy's request (see ADDRESSES). All information, suggestions, and comments related to the Naval Surface Warfare Center Panama City Division's request and NMFS' potential development and implementation of regulations governing the incidental taking of marine mammals by the Navy's mission activities will be considered by NMFS in developing, if appropriate, the most effective regulations governing the issuance of letters of authorization.

Dated: April 8, 2008.
James H. Lecky,
Director, Office of Protected Resources, National Marine Fisheries Service.

[FR Doc. E8-7897 Filed 4-11-08; 8:45 am]

BILLING CODE 3510-22-S